DEPARTMENT OF TRANSPORTATION

Office of the Secretary

49 CFR Part 234

Categories of Delay for Air Carrier On-Time Reporting Advisory Committee

AGENCY: Office of the Secretary.

ACTION: Notice of public meetings.

SUMMARY: In accordance with section 227 of the Wendell H. Ford Aviation Investment and Reform Act for the 21st Century (Public Law 106-181). The Department of Transportation is establishing the Categories of Delay For Air Carrier On-Time Reporting Advisory Committee.

DATES: The meetings have tentatively been scheduled to be held on October 25-26, 2000, November 1-2, 2000, and November 8-9, 2000. The meetings will be held from 8 a.m. to 5 p.m. Due to the short time period between the first meeting and report due date we are unable to give 15 day notice of the first meeting.

ADDRESSES: The meetings will be held at the U.S. Department of Transportation, Room 2230 Nassif Building, 400 Seventh Street, SW., Washington, DC.

FOR FURTHER INFORMATION CONTACT: Walter Finch, Office of Intermodalism, Office of The Secretary (Phone: 202 366-5781).

SUPPLEMENTARY INFORMATION:

I. Background

Under 14 CFR part 234, the U.S. Department of Transportation's Bureau of Transportation Statistics (BTS) Office of Airline Information (OAI) collects and publishes on-time data. With the data, users can calculate daily average flight delay for particular flights and the percentage of an airline's flights delayed, canceled, or diverted. The Federal Aviation Administration (FAA) and the air carriers use the data to better understand tarmac and airborne delays. The Department of Transportation (DOT) and the air carriers also use the data for performance measurements.

Section 227 of The Wendell H. the Wendell H. Ford Aviation Investment and Reform Act for the 21st Century (AIR-21) requires that the BTS's data collection, also called the Airline Service Quality Performance Reports, be modified to include information about reasons for delay. DOT is establishing the Categories of Delay For Air Carrier On-Time Reporting Advisory Committee to examine reasons for delays and cancellations experienced by the consumer, and to recommend alternatives and criteria for modifications to the regulations in part 234 of title 14, Code of Federal Regulations.

II. Potential Issues To Be Discussed

1. What categories of delay information will be beneficial to the government, airlines, and consumers?

2. For the categories, what definitions describe them adequately and are technically feasible?

3. How should information be collected—who will report delay information?

4. When a delay has multiple causes, how should this be handled?

III. Membership

Members have been chosen to provide a balanced cross section of viewpoints of the affected interests concerning the data collection, including representatives from airline consumer groups, air carriers, labor unions, and airport operators. The Committee will be chaired by Associate Deputy Secretary, Dr. Stephen D. Van Beek.

IV. Participation by Non-Members

Meetings of the Committee will be open to the public so that individuals who are not part of the Committee may attend and observe, but not participate.

Done at Washington, DC on October 18, 2000.
Stephen D. Van Beek,
Associate Deputy Secretary, U.S. Department of Transportation.

[FR Doc. 00-27231 Filed 10-19-00; 12:29 pm]

BILLING CODE 4910-62-P